DEPARTMENT OF ENERGY

Federal Energy Regulatory Commission

Combined Notice of Filings #1

Take notice that the Commission received the following Complaints and Compliance filings in EL Dockets:

Docket Numbers: EL22-20-000.

Applicants: Kansas Electric Power Cooperative, Inc. v. Evergy Kansas Central, Inc.

Description: Complaint of Kansas Electric Power Cooperative, Inc. v. Evergy Kansas Central, Inc.

Filed Date: 12/10/21.

Accession Number:. 20211210-5180.

Comment Date: 5 p.m. ET 1/10/22.

Take notice that the Commission received the following electric rate filings:

Docket Numbers: ER15-2025-002; ER15-2376-003.

Applicants: Energy Power Investment Company, LLC, Talen Renewable Energy, LLC.

Description: Supplement to July 12, 2021 Notice of Change in Status of Energy Power Investment Company, LLC, et al.

Filed Date: 12/10/21.

Accession Number: 20211210-5230.

Comment Date: 5 p.m. ET 1/3/22.

Docket Numbers: ER21-2337-002.

Applicants: ISO New England Inc., Eversource Energy Service Company (as agent).

Description: Tariff Amendment: ISO New England Inc. submits tariff filing per 35.17(b): PTO AC and ISO-NE; Docket No. ER21-2337-000; Deficiency Response to be effective 9/1/2021.

Filed Date: 12/13/21.

Accession Number: 20211213-5097.

Comment Date: 5 p.m. ET 1/3/22.

Docket Numbers: ER21-2988-001.

Applicants: Public Service Company of New Mexico.

Description: Tariff Amendment: PNM Response to Deficiency Letter to be effective 3/31/2021.

Filed Date: 12/13/21.

Accession Number: 20211213-5070.

Comment Date: 5 p.m. ET 1/3/22.

Docket Numbers: ER22-614-000.

Applicants: PJM Interconnection, L.L.C.

Description: § 205(d) Rate Filing: Original WMPA, Service Agreement No. 6268; Queue No. AG2-391 to be effective 11/11/2021.

Filed Date: 12/13/21.

Accession Number: 20211213-5011.

Comment Date: 5 p.m. ET 1/3/22

Docket Numbers: ER22-615-000.

Applicants: Prairie State Solar, LLC.

Description: Baseline eTariff Filing: Reactive Power Compensation Filing to be effective 1/31/2022.

Filed Date: 12/13/21.

Accession Number: 20211213-5036.

Comment Date: 5 p.m. ET 1/3/22.

Docket Numbers: ER22-616-000.

Applicants: Dressor Plains Solar, LLC.

Description: Baseline eTariff Filing: Reactive Power Compensation Filing to be effective 1/31/2022.

Filed Date: 12/13/21.

Accession Number: 20211213-5038.

Comment Date: 5 p.m. ET 1/3/22.

Docket Numbers: ER22-617-000.

Applicants: PJM Interconnection, L.L.C.

Description: § 205(d) Rate Filing: Original ISA, Service Agreement No. 6239; Queue No. AE2-343 to be effective 11/11/2021.

Filed Date: 12/13/21.

Accession Number: 20211213-5045.

Comment Date: 5 p.m. ET 1/3/22.

Docket Numbers: ER22-618-000.

Applicants: Rock River I, LLC.

Description: Tariff Amendment: Notice of Cancellation and Requests for Waiver and Expedited Action to be effective 12/14/2021.

Filed Date: 12/13/21.

Accession Number: 20211213-5077.

Comment Date: 5 p.m. ET 1/3/22.

Docket Numbers: ER22-619-000.

Applicants: Pacific Gas and Electric Company.

Description: Tariff Amendment: CCSF Appendix E Termination (SA 275) to be effective 1/31/2022.

Filed Date: 12/13/21.

Accession Number: 20211213-5102.

Comment Date: 5 p.m. ET 1/3/22.

Docket Numbers: ER22-620-000.

Applicants: Pacific Gas and Electric Company.

Description: § 205(d) Rate Filing: CCSF Revision to add Appendix G (SA 275) to be effective 2/1/2022.

Filed Date: 12/13/21.

Accession Number: 20211213-5111.

Comment Date: 5 p.m. ET 1/3/22.

Docket Numbers: ER22-621-000.

Applicants: Talen Energy Marketing, LLC.

Description: Request for Limited Waiver of Talen Energy Marketing LLC.

Filed Date: 12/10/21.

Accession Number: 20211210-5231.

Comment Date: 5 p.m. ET 1/3/22.

Docket Numbers: ER22-622-000.

Applicants: Southern California Edison Company.

Description: § 205(d) Rate Filing: UFA Bonanza Solar TOT931 SA No 277 to be effective 12/14/2021.

Filed Date: 12/13/21.

Accession Number: 20211213-5126.

Comment Date: 5 p.m. ET 1/3/22.

Docket Numbers: ER22-623-000.

Applicants: Alabama Power Company.

Description: § 205(d) Rate Filing: CPV Stagecoach Solar LGIA Filing to be effective 11/29/2021.

Filed Date: 12/13/21.

Accession Number: 20211213-5152.

Comment Date: 5 p.m. ET 1/3/22.

Docket Numbers: ER22-624-000.

Applicants: Alabama Power Company.

Description: § 205(d) Rate Filing: CPV Five Bridges Solar LGIA Filing to be effective 11/29/2021.

Filed Date: 12/13/21.

Accession Number: 20211213-5154.

Comment Date: 5 p.m. ET 1/3/22.

Docket Numbers: ER22-625-000.

Applicants: Delmarva Power & Light Company.

Description: Tariff Amendment: Cancellation of Construction Agreement with DEMEC to be effective 12/14/2021.

Filed Date: 12/13/21.

Accession Number: 20211213-5182.

Comment Date: 5 p.m. ET 1/3/22.

Docket Numbers: ER22-626-000.

Applicants: Delmarva Power & Light Company.

Description: § 205(d) Rate Filing: Filing of 138 kV Construction Agreement with DEMEC to be effective 12/14/2021.

Filed Date: 12/13/21.

Accession Number: 20211213-5205.

Comment Date: 5 p.m. ET 1/3/22

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2021.
Debbie-Anne A. Reese,
Deputy Secretary.

[FR Doc. 2021-27369 Filed 12-16-21; 8:45 am]

BILLING CODE 6717-01-P